DEPARTMENT OF ENERGY

Federal Energy Regulatory Commission

Combined Notice of Filings #1

Take notice that the Commission received the following exempt wholesale generator filings:

Docket Numbers: EG25-522-000.

Applicants: Dodge Flat Energy Storage, LLC.

Description: Dodge Flat Energy Storage, LLC submits Notice of Self-Certification of Exempt Wholesale Generator Status.

Filed Date: 9/12/25.

Accession Number: 20250912-5115.

Comment Date: 5 p.m. ET 10/3/25.

Docket Numbers: EG25-523-000.

Applicants: Cedar Springs Energy Storage IV, LLC.

Description: Cedar Springs Energy Storage IV, LLC submits Notice of Self-Certification of Exempt Wholesale Generator Status.

Filed Date: 9/12/25.

Accession Number: 20250912-5121.

Comment Date: 5 p.m. ET 10/3/25.

Take notice that the Commission received the following electric rate filings:

Docket Numbers: ER21-2629-001; ER23-2764-005.

Applicants: Northeastern Power & Gas, LLC, Maven Energy, LLC.

Description: Notice of Non-Material Change in Status of Maven Energy, LLC, et al.

Filed Date: 9/10/25.

Accession Number: 20250910-5138.

Comment Date: 5 p.m. ET 10/1/25.

Docket Numbers: ER24-2217-002.

Applicants: SunZia Transmission, LLC.

Description: Compliance filing: Order Nos. 2023 and 2023-A Third Compliance Filing (ER24-2217-) to be effective 1/20/2025.

Filed Date: 9/12/25.

Accession Number: 20250912-5049.

Comment Date: 5 p.m. ET 10/3/25.

Docket Numbers: ER25-2686-001.

Applicants: Appalachian Power Company.

Description: Tariff Amendment: APCo Response to Deficiency Letter to be effective 8/27/2025.

Filed Date: 9/12/25.

Accession Number: 20250912-5034.

Comment Date: 5 p.m. ET 10/3/25.

Docket Numbers: ER25-2873-001.

Applicants: Midcontinent Independent System Operator, Inc., Ameren Illinois Company.

Description: Tariff Amendment: Ameren Illinois Company submits tariff filing per 35.17(b): 2025-09-12_SA 3064 Amendment PSA No. 1-Ameren Illinois-RECC-Farmersville Tap to be effective 9/16/2025.

Filed Date: 9/12/25.

Accession Number: 20250912-5119.

Comment Date: 5 p.m. ET 10/3/25.

Docket Numbers: ER25-2886-001.

Applicants: Tucson Electric Power Company.

Description: Tariff Amendment: Replacement Generation OATT Revisions—Supplement to be effective 9/17/2025.

Filed Date: 9/12/25.

Accession Number: 20250912-5000.

Comment Date: 5 p.m. ET 10/3/25.

Docket Numbers: ER25-2896-001.

Applicants: Southwest Power Pool, Inc.

Description: Tariff Amendment: Amended South Central MCN—Name Change to GridLiance High Plains LLC to be effective 4/1/2021.

Filed Date: 9/12/25.

Accession Number: 20250912-5111.

Comment Date: 5 p.m. ET 10/3/25.

Docket Numbers: ER25-2897-001.

Applicants: PJM Interconnection, L.L.C.

Description: Tariff Amendment: Amendment to Clean-Up Filing in ER25-2897 to be effective 1/1/2025.

Filed Date: 9/12/25.

Accession Number: 20250912-5112.

Comment Date: 5 p.m. ET 10/3/25.

Docket Numbers: ER25-2941-001.

Applicants: NextEra Energy Transmission MidAtlantic, Inc.

Description: Tariff Amendment: NEET MidAtlantic submits Amndnt to Filing to Revise Atts H-33 and H-33A to be effective 6/1/2024.

Filed Date: 9/12/25.

Accession Number: 20250912-5008.

Comment Date: 5 p.m. ET 10/3/25.

Docket Numbers: ER25-3418-000.

Applicants: Zenith Solar, LLC.

Description: Petition of Zenith Solar, LLC for Prospective Tariff Waiver, Shortened Comment Period, and Expedited Action.

Filed Date: 9/10/25.

Accession Number: 20250910-5137.

Comment Date: 5 p.m. ET 9/22/25.

Docket Numbers: ER25-3419-000.

Applicants: Tri-State Generation and Transmission Association, Inc.

Description: 205(d) Rate Filing: Amendment to Rate Schedule FERC No. 402 to be effective 11/12/2025.

Filed Date: 9/12/25.

Accession Number: 20250912-5046.

Comment Date: 5 p.m. ET 10/3/25.

Docket Numbers: ER25-3420-000.

Applicants: Tri-State Generation and Transmission Association, Inc.

Description: 205(d) Rate Filing: Initial Filing of Rate Schedule FERC No. 424 to be effective 11/12/2025.

Filed Date: 9/12/25.

Accession Number: 20250912-5060.

Comment Date: 5 p.m. ET 10/3/25.

Docket Numbers: ER25-3421-000.

Applicants: Northern States Power Company, a Minnesota corporation.

Description: 205(d) Rate Filing: NSP—KAS T-L Interconnection SISA to be effective 9/15/2025.

Filed Date: 9/12/25.

Accession Number: 20250912-5065.

Comment Date: 5 p.m. ET 10/3/25.

Docket Numbers: ER25-3422-000.

Applicants: Tri-State Generation and Transmission Association, Inc.

Description: 205(d) Rate Filing: Amendment to Rate Schedule No. 403 to be effective 11/12/2025.

Filed Date: 9/12/25.

Accession Number: 20250912-5070.

Comment Date: 5 p.m. ET 10/3/25.

Docket Numbers: ER25-3423-000.

Applicants: Tri-State Generation and Transmission Association, Inc.

Description: Tariff Amendment: Notice of Cancellation of Rate Schedule No. 169 to be effective 11/12/2025.

Filed Date: 9/12/25.

Accession Number: 20250912-5079.

Comment Date: 5 p.m. ET 10/3/25.

Docket Numbers: ER25-3424-000.

Applicants: Duke Energy Progress, LLC, Duke Energy Carolinas, LLC.

Description: 205(d) Rate Filing: Duke Energy Carolinas, LLC submits tariff filing per 35.13(a)(2)(iii: Revisions to Attachment C-1 and C-3 of Joint OATT to be effective 9/1/2017.

Filed Date: 9/12/25.

Accession Number: 20250912-5116.

Comment Date: 5 p.m. ET 10/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 12, 2025.
Carlos D. Clay,
Deputy Secretary.

[FR Doc. 2025-17957 Filed 9-16-25; 8:45 am]

BILLING CODE 6717-01-P